DEPARTMENT OF STATE

[Public Notice: 12822]

60-Day Notice of Proposed Information Collection: Application To Determine Returning Resident Status

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to January 20, 2026.

ADDRESSES: You may submit comments by any of the following methods:

• Web: Persons with access to the internet may comment on this notice by going to www.Regulations.gov. You can search for the document by entering “Docket Number: DOS-2025-0335” in the Search field. Then click the “Comment Now” button and complete the comment form.

• Email: PRA_BurdenComments@state.gov.

• Regular Mail: Send written comments to: Senior Regulatory Coordinator, Visa Services, Department of State, 600 19th St. NW, Washington, DC 20006.

You must include the DS form number (if applicable), information collection title, and the OMB control number in any correspondence.

SUPPLEMENTARY INFORMATION:

• Title of Information Collection: Application to Determine Returning Resident Status.

• OMB Control Number: 1405-0091.

• Type of Request: Extension of a Currently Approved Collection.

• Originating Office: Consular Affairs Visa Office.

• Form Number: DS-117.

• Respondents: Aliens who temporarily departed the United States as lawful permanent residents or conditional residents and, due to circumstances beyond their control, were unable to return within the validity period of their reentry document.

• Estimated Number of Respondents: 4,200.

• Estimated Number of Responses: 4,200.

• Average Time per Response: 30 minutes.

• Total Estimated Burden Time: 2,100 Hours.

• Frequency: Once Per Application.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

Under Section 101(a)(27)(A) of the Immigration and Nationality Act (INA), 8 U.S.C. 1101, and INA section 203(b)(4), an alien may be issued a special immigrant visa as a returning resident if he or she is an immigrant, previously admitted as a lawful permanent resident or conditional resident, who is returning from a temporary visit abroad of more than one year due to circumstances beyond his or her control. The DS-117 is used to collect the information necessary to determine a returning resident's eligibility for such a visa.

Methodology

Aliens will submit the DS-117 electronically via email, or they will print the form and submit it in person to a U.S. embassy or consulate abroad.

Stuart R. Wilson,
Deputy Assistant Secretary, Bureau of Consular Affairs, Department of State.

[FR Doc. 2025-20262 Filed 11-18-25; 8:45 am]

BILLING CODE 4710-06-P